FEDERAL MARITIME COMMISSION

Ocean Transportation Intermediary License Reissuances

The Commission gives notice that the following Ocean Transportation Intermediary licenses have been reissued pursuant to section 19 of the Shipping Act of 1984 (46 U.S.C. 40101).

License No.: 019923F.

Name: Tretaylor International, Inc.

Address: 2034 Rolling Hills Way, Rocky Face, GA 30740.

Date Reissued: May 28, 2014.

License No.: 024273N.

Name: Evgeny Lavrentev dba Galaxy Enterprises LA.

Address: 14732 Calvert Street, Van Nuys, CA 91411.

Date Reissued: May 28, 2014.

Sandra L. Kusumoto,
Director, Bureau of Certification and Licensing.

[FR Doc. 2014-16934 Filed 7-17-14; 8:45 am]

BILLING CODE 6730-01-P